DEPARTMENT OF HEALTH AND HUMAN SERVICES

Centers for Medicare & Medicaid Services

42 CFR Parts 405, 409, 410, 411, 414, 415, 424, 485, and 486

[CMS-1403-CN]

RIN 0938-AP18

Medicare Program; Revisions to Payment Policies Under the Physician Fee Schedule and Other Revisions to Part B for CY 2009; and Revisions to the Amendment of the E-Prescribing Exemption for Computer Generated Facsimile Transmissions; Correction

AGENCY: Centers for Medicare & Medicaid Services (CMS), HHS.

ACTION: Proposed rule; correction.

SUMMARY: This document corrects several technical and typographical errors in the proposed rule that was issued on June 30, 2008 and appeared in the July 7, 2008 Federal Register (73 FR 38502). The proposed rule addressed Medicare Part B payment policy, including the physician fee schedule (PFS) that is applicable for calendar year (CY) 2009. The proposed rule also addressed refinements to relative value units (RVUs) and physician self-referral issues. Specifically, the errors pertain to the following provisions: Practice expense, telehealth services, competitive acquisition program (CAP), anti-markup provisions, and the Physician Quality Reporting Initiative.

FOR FURTHER INFORMATION CONTACT: Diane Milstead, (410) 786-3355.

SUPPLEMENTARY INFORMATION:

I. Background

In FR Doc. E8-14949 (73 FR 38502), the proposed rule entitled “Medicare Program; Revisions to Payment Policies Under the Physician Fee Schedule and Other Revisions to Part B for CY 2009; and Revisions to the Amendment of the E-Prescribing Exemption for Computer Generated Facsimile Transmissions” (hereinafter referred to as the CY 2009 PFS proposed rule), there were technical and typographical errors that are identified and corrected in this correction notice.

II. Summary of Errors

On page 38503, we are adding contact information for issues concerning educational requirements for nurse practitioners and clinical nurse specialists, and physician certification and recertification for Medicare home health services.

On page 38510, in the formula for equipment cost per minute, we inadvertently omitted an asterisk.

On page 38518, in the 1st column, we cited the incorrect chapter in the CMS Internet-Only Medicare Claims Processing Manual for more information concerning the instructions for the submission of interactive telehealth claims.

On page 38525, we are correcting a typographical error that clarifies that participating CAP physicians whose participation in the CAP has been suspended will not receive CAP drugs.

On page 38545, we are correcting a date cited in the CY 2009 PFS proposed rule that references the suit against the Secretary (Atlantic Urological Associates PA v. Leavitt, Civil Action No. 08-141-(RMC) (D.D.C.)).

On page 38569, in Table 11, we inadvertently omitted an asterisk on measure numbers 110 and 111 that inform the public that these proposed PQRI measures were being proposed as measures that could be reported through electronic health records (EHR).

On pages 38569 and 38571, we are correcting the footnotes to Tables 11 and 13, respectively, to state these measures are 1 of 17 measures for which data may potentially be accepted through the EHR mechanism in 2009.

On page 38576, we are correcting the language summarizing the current nurse practitioner qualification standards.

III. Correction of Errors

In FR Doc. E8-14949 of July 7, 2008 (73 FR 38502), make the following corrections:

1. On page 38503, in the 1st column, after the 11th paragraph, add the following:

“Regina Walker-Wren, (410) 786-9160, for information concerning educational requirements for nurse practitioners and clinical nurse specialists.

Randy Throndset, (410) 786-0131, for information concerning physician certification and recertification for Medicare home health services.”

2. On page 38510, in the 2nd column, line 1, the phrase “rate) * life of the equipment)))) +” is corrected to read “rate) ** life of the equipment)))) +”.

3. On page 38518, in the 1st column;

a. In the 1st full paragraph, line 22, the phrase “Chapter 15” is corrected to read “Chapter 12.”

b. In the 2nd full paragraph, line 19, the phrase “Chapter 15” is corrected to read “Chapter 12.”

4. On page 38525, in the 1st column, in the 2nd paragraph, line 16, the phrase “CAP has suspended” is corrected to read “CAP has been suspended.”

5. On page 38545, in the 2nd column; in the 1st full paragraph, line 1, the phrase “On January 25, 2008” is corrected to read “On January 24, 2008.”

6. On page 38569, in Table 11,

a. Column 1, an asterisk is added to the title of measure numbers 110 and 111 to read as follows:

Table 11—2008 PQRI Measures Proposed for 2009
Measure number and title | Measure source
110. Preventive Care and Screening: Influenza Immunization for Patients ≥ 50 Years Old * | AMA-PCPI.
111. Preventive Care and Screening: Pneumonia Vaccination for Patients 65 Years and Older * | NCQA.

b. The footnote “* This measure is one fifteen measures for which data may potentially be accepted through the EHR mechanism in 2009.” is corrected to read “* This measure is 1 of 17 measures for which data may potentially be accepted through the EHR mechanism in 2009.”

7. On page 38571, Table 13, the footnote “* This measure is one fifteen measures for which data may potentially be accepted through the EHR mechanism in 2009.” is corrected to read “* This measure is 1 of 17 measures for which data may potentially be accepted through the EHR mechanism in 2009.”

8. On page 38576, in the 2nd column, in the 1st full paragraph, line 16, the phrase “requirements, but not entirely date” is corrected to read “requirements that are not entirely date.”

(Catalog of Federal Domestic Assistance Program No. 93.773, Medicare—Hospital Insurance; and Program No. 93.774, Medicare—Supplementary Medical Insurance Program)

Dated: July 28, 2008.
Ann C. Agnew,
Executive Secretary to the Department.

[FR Doc. E8-17732 Filed 7-31-08; 8:45 am]

BILLING CODE 4120-01-P